ENVIRONMENTAL PROTECTION AGENCY

40 CFR Part 180

[EPA-HQ-OPP-2014-0194; FRL-9942-24]

Amitraz, Carfentrazone-ethyl, Ethephon, Malathion, Mancozeb, et al.; Tolerance Actions; Correction

AGENCY: Environmental Protection Agency (EPA).

ACTION: Final rule; correction.

SUMMARY: EPA issued a document in the Federal Register of November 20, 2015, concerning the removal of the entry “Rice, straw” from the table in 40 CFR 180.361(a). EPA subsequently issued a document in the Federal Register of December 21, 2015, which redesignated 40 CFR 180.361(a) as 40 CFR 180.361(a)(1). This document corrects the document published on November 20, 2015, to remove the entry “Rice, straw” from the table in paragraph (a)(1).

DATES: This final rule correction is effective May 18, 2016.

FOR FURTHER INFORMATION CONTACT: Susan Lewis, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

The Agency included in the November 20, 2015 document a list of those who may be potentially affected by this action.

B. How can I get copies of this document and other related information?

The dockets for this action, identified by docket identification (ID) number EPA-HQ-OPP-2014-0194 are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the dockets available at http://www.epa.gov/dockets.

II. What does this correction do?

The final rule in the Federal Register of November 20, 2015, amended 40 CFR 180.361 to remove the entry “Rice, straw” from the table in paragraph (a). In the final rule in the Federal Register of December 21, 2015 (80 FR 79267) (FRL-9937-18), paragraph (a) was redesignated as paragraph (a)(1) so we are amending 40 CFR 180.361 to remove the entry “Rice, straw” from the table in paragraph (a)(1).

FR Doc. 2015-28491 published in the Federal Register of November 20, 2015 (80 FR 72593) (FRL-9935-01) is corrected as follows:

§ 180.361 [Amended]

1. On page 72598, second column, under the heading § 180.361 [Amended], instruction 16, line 3, correct paragraph (a) to read paragraph (a)(1).

List of Subjects in 40 CFR Part 180

Environmental protection, Administrative practice and procedure, Agricultural commodities, Pesticides and pests, Reporting and recordkeeping requirements.

Dated: February 25, 2016.
Susan Lewis,
Director, Registration Division, Office of Pesticide Programs.

[FR Doc. 2016-04765 Filed 3-7-16; 8:45 am]

BILLING CODE 6560-50-P